DEPARTMENT OF HOMELAND SECURITY

Coast Guard

[Docket No. USCG-2024-0048]

National Towing Safety Advisory Committee; Vacancies

AGENCY: Coast Guard, Department of Homeland Security.

ACTION: Notice; request for applications.

SUMMARY: The U.S. Coast Guard is accepting applications to fill eighteen vacancies on the National Towing Safety Advisory Committee (Committee). This Committee advises the Secretary of Homeland Security, via the Commandant of the U.S. Coast Guard on matters relating to shallow-draft inland navigation, coastal waterway navigation, and towing safety.

DATES: Completed applications must reach the U.S. Coast Guard on or before June 10, 2024.

ADDRESSES: Applications must include: (a) a cover letter expressing interest in an appointment to the National Towing Safety Advisory Committee, (b) a resume detailing the applicant's relevant experience for the position applied for, and (c) a brief biography. Applications should be submitted via email with subject line “NTSAC Vacancy Application” to Matthew.d.Layman@uscg.mil.

FOR FURTHER INFORMATION CONTACT: Mr. Matthew Layman, Designated Federal Officer of the National Towing Safety Advisory Committee; telephone 202-372-1421 or email at Matthew.d.Layman@uscg.mil.

SUPPLEMENTARY INFORMATION: The National Towing Safety Advisory Committee is a Federal advisory committee.

The National Towing Safety Advisory Committee was established by section 601 of the Frank LoBiondo Coast Guard Authorization Act of 2018, (Pub. L. 115-282, 132 Stat. 4192), and is codified in 46 U.S.C. 15108. The Committee operates under the provisions of the Federal Advisory Committee Act and 46 U.S.C. 15109. The National Towing Safety Advisory Committee provides advice and recommendations to the Secretary of Homeland Security through the Commandant of the U. S. Coast Guard, on matters related to shallow-draft inland navigation, coastal waterway navigation, and towing safety.

The Committee is required to meet at least once a year in accordance with 46 U.S.C. 15109(a). We expect the Committee to meet at least twice a year, but it may meet more frequently.

Under provisions in 46 U.S.C. 15109(f)(6), if you are appointed as a member of the Committee, your membership term will expire on December 31st of the third full year after the effective date of your appointment. The Secretary of Homeland Security may require an individual to have passed an appropriate security background examination before appointment to the Committee, 46 U.S.C. 15109(f)(4).

All members serve at their own expense and receive no salary from the Federal Government. The only compensation the members may receive is for travel expenses, including per diem in lieu of subsistence, actual reasonable expenses, or both, incurred in the performance of their direct duties for the Committee in accordance with Federal Travel Regulations. If you are appointed as a member of the Committee, you will be required to sign a Non-Disclosure Agreement and a Gratuitous Services Agreement.

In this solicitation for Committee Members, we will consider applications for the following 18 positions:

• Seven members to represent the barge and towing industry, reflecting a regional geographic balance.

• One member to represent the offshore mineral and oil supply vessel industry.

• One member to represent masters and pilots of towing vessels who hold active licenses and have experience on the Western Rivers and the Gulf Intracoastal Waterway.

• One member to represent the masters of towing vessels in offshore service who hold active licenses.

• One member to represent masters of active ship docking or harbor towing vessels.

• One member to represent licensed and unlicensed towing vessel engineers with formal training and experience.

• Two members to represent port districts, authorities, or terminal operators.

• Two members to represent shippers and of the two, one to engaged in the shipment of oil or hazardous materials by barge.

• Two members to represent the general public.

If you are applying for the position who represents the general public, you will be appointed and serve as a Special Government Employee as defined in 18 U.S.C. 202(a). Applicants for appointment as a Special Government Employee are required to complete a Confidential Financial Disclosure Report (OGE Form 450) for new entrants and if appointed as a member must submit a new entrant OGE Form 450 annually. The U.S. Coast Guard may not release the reports or the information in them to the public except under an order issued by a Federal Court or as otherwise provided under the Privacy Act (5 U.S.C 552a). Only the Designated U. S. Coast Guard Ethics Official or their designee may release a Confidential Financial Disclosure Report. Applicants can obtain this form by going to the website of the Office of Government Ethics (www.oge.gov), or by calling or emailing the individual listed above in the FOR FURTHER INFORMATION CONTACT section. Applications for members drawn from the general public must be accompanied by a completed OGE Form 450.

In order for the Department, to fully leverage broad-ranging experience and education, the National Towing Safety Advisory Committee must be diverse with regard to professional and technical expertise. The Department is committed to pursuing opportunities, consistent with applicable law, to compose a committee that reflects the diversity of the Nation's people.

If you are interested in applying to become a member of the Committee, email your application to Matthew.d.Layman@uscg.mil as provided in the ADDRESSES section of this notice. Applications must include: (a) a cover letter expressing interest in an appointment to the National Towing Safety Advisory Committee, (b) a resume detailing the applicant's relevant experience for the position applied for, and (c) a brief biography of the applicant by the deadline in the DATES section of this notice.

The U.S. Coast Guard will not consider incomplete or late applications.

Privacy Act Statement

Purpose: To obtain qualified applicants to fill 18 vacancies on the National Towing Safety Advisory Committee. When you apply for appointment to the DHS' National Towing Safety Advisory Committee, DHS collects your name, contact information, and any other personal information that you submit in conjunction with your application. DHS will use this information to evaluate your candidacy for Committee membership. If you are chosen to serve as a Committee member, your name will appear in publicly-available Committee documents, membership lists, and Committee reports.

Authorities: 14 U.S.C. 504; 46 U.S.C. 15108 and 15109; and 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57642, October 3, 2008).

Consequences of Failure to Provide Information: Furnishing this information is voluntary. However, failure to furnish the requested information may result in your application not being considered for the Committee.

Dated: April 2, 2024.
Jeffrey G. Lantz,
Director of Commercial Regulations and Standards.

[FR Doc. 2024-07696 Filed 4-10-24; 8:45 am]

BILLING CODE 9110-04-P